DEPARTMENT OF EDUCATION

34 CFR Part 75

[Docket ID ED-2025-OS-0020]

Proposed Priorities and Definitions—Secretary's Supplemental Priorities and Definitions on Evidence-Based Literacy, Education Choice, and Returning Education to the States

AGENCY: U.S. Department of Education.

ACTION: Proposed priorities and definitions.

SUMMARY: The Secretary proposes three initial and urgent priorities and related definitions for use in currently authorized discretionary grant programs or programs that may be authorized in the future. The Secretary may choose to use an entire priority for a grant program or a particular competition or use one or more of the priority's component parts. These priorities and definitions are intended to replace the Secretary's supplemental priorities published in the Federal Register on December 10, 2021 (86 FR 70612) and all other agency-wide supplemental priorities published prior to January 20, 2025. However, those priorities remain in effect for notices inviting applications (NIAs) published before the U.S. Department of Education (Department) finalizes the proposed priorities in this document.

DATES: We must receive your comments on or before June 20, 2025.

ADDRESSES: Comments must be submitted via the Federal eRulemaking Portal at regulations.gov. However, if you require an accommodation or cannot otherwise submit your comments via regulations.gov, please contact the program contact person listed under FOR FURTHER INFORMATION CONTACT. The Department will not accept comments by fax or by email, or comments submitted after the comment period closes. To ensure that the Department does not receive duplicate copies, please submit your comments only once. Additionally, please include the Docket ID at the top of your comments.

Federal eRulemaking Portal: Go to www.Regulations.gov to submit your comments electronically. Information on using Regulations.gov, including instructions for accessing agency documents, submitting comments, and viewing the docket, is available on the site under “FAQ.”

Privacy Note: The Department's policy is to generally make all comments received from members of the public available for public viewing in their entirety on the Federal eRulemaking Portal at Regulations.gov. Therefore, commenters should be careful to include in their comments only information that they wish to make publicly available.

FOR FURTHER INFORMATION CONTACT: Zachary Rogers, U.S. Department of Education, 400 Maryland Avenue SW, Room 7W213, Washington, DC 20202-6450. Telephone: (202) 260-1144. Email: SSP@ed.gov.

If you are deaf, hard of hearing, or have a speech disability and wish to access telecommunications relay services, please dial 7-1-1.

SUPPLEMENTARY INFORMATION:

Invitation to Comment: We invite you to submit comments regarding the proposed priorities and definitions. Please submit your comments only once so that we do not receive duplicate copies. The Department will not accept comments submitted after the comment period closes.

We invite you to assist us in complying with the specific requirements of Executive Orders 12866, 13563, and 14192 and their overall requirement of reducing regulatory burden that might result from these proposed priorities and definitions. Please let us know of any further ways we could reduce potential costs or increase potential benefits while preserving the effective and efficient administration of the program.

For your comments to have maximum effect in developing the final priorities and definitions, we provide the following tips:

• Be concise but support your claims.

• Explain your views as clearly as possible and avoid using profanity.

• Refer to specific sections and subsections of the proposed priorities and definitions throughout your comments, particularly in any headings that are used to organize your submission.

• Arrange your comments in the same order as the proposed priorities and definitions.

• Explain why you agree or disagree with the proposed priorities or definitions and support these reasons with data-driven evidence, including the depth and breadth of your personal and professional experiences.

• Where you disagree with the proposed priorities or definitions, suggest alternatives, including revised priority or definition language, and your rationale for the alternative suggestion.

In instances where individual submissions appear to be duplicates or near duplicates of comments prepared as part of a writing campaign, the Department may choose to post to Regulations.gov one representative sample comment along with the total comment count for that campaign. The Department will consider these comments along with all other comments received. In instances where individual submissions are bundled together (submitted as a single document or packaged together), the Department will post all of the substantive comments included in the submissions along with the total comment count for that document or package to Regulations.gov. A well-supported comment is often more informative to the agency than multiple form letters.

Comments containing personal threats will not be posted to Regulations.gov and may be referred to the appropriate authorities.

During and after the comment period, you may inspect public comments about the proposed priorities and definitions by accessing Regulations.gov. To inspect comments in person, please contact the person listed under FOR FURTHER INFORMATION CONTACT.

Assistance to Individuals with Disabilities in Reviewing the Rulemaking Record: On request, we will provide an appropriate accommodation or auxiliary aid to an individual with a disability who needs assistance to review the comments or other documents in the public rulemaking record for this document. If you want to schedule an appointment for this type of accommodation or auxiliary aid, please contact the person listed under FOR FURTHER INFORMATION CONTACT.

Program Authority: 20 U.S.C. 1221e-3, 3474, 6301 et seq., 5 U.S.C. 311 et seq.

Proposed Priorities: This document contains three proposed priorities.

Proposed Priority 1: Promoting Evidence-Based Literacy

Background: Recent test scores consistently reveal that American students are struggling to meet grade-level reading standards. The latest results from the National Assessment of Educational Progress (NAEP), which showed that 4th and 8th grade students are lagging far behind in literacy, highlight the urgent need to address this critical issue. Reading scores have reached historic lows, with the most notable drops observed among students in the bottom quartile of performers.¹ Despite billions of dollars in annual federal education funding, these scores show no signs of improvement, even with record investments in programs intended to enhance the educational experience of American students.

¹ National Center for Education Statistics (NCES) National Assessment of Educational Progress (NAEP). “Explore Results of the 2024 NAEP Reading Assessment.” https://www.nationsreportcard.gov/reports/reading/2024/g4_8/.

Federal education spending must now prioritize a vital and foundational goal: ensuring that every student in America becomes proficient in reading. Effective evidence-based literacy instruction should be supported by strong or moderate evidence that relates to explicit, systematic, and intentional instruction in phonological awareness, phonic decoding, vocabulary, language structure, reading fluency, and reading comprehension.

It is essential that taxpayer dollars focus on initiatives that directly benefit students through effective literacy instruction and ensure that educator pipelines at the postsecondary level keep evidence-based literacy at the forefront while preparing the educators of tomorrow. It is time for the United States to refocus its education investments on the most essential skill a student can acquire: literacy. The ability to read is the foundation for all learning, unlocking opportunities for academic, professional, and personal achievement and strengthening critical thinking skills essential to lifelong success.

Proposed Priority: Projects or proposals to do one or more of the following:

(a) Advance, increase, or expand evidence-based literacy instruction (as defined in this notice), or

(b) Focus on evidence-based literacy instruction (as defined in this notice).

Proposed Priority 2: Expanding Education Choice

Background: When our conventional public education system fails such a large segment of society, it hinders our national competitiveness and imperils families and communities. Education choice empowers parents and families to seek the best learning environment for their children, fostering innovation in education models that address the unique needs of students across the country. Education choice ensures that every child has the opportunity to access a high-quality education and pursue the American Dream, regardless of their zip code.

Education choice gives parents, who understand their children's needs best, the ability to make informed decisions about their children's education paths. For this reason, more than a dozen States have enacted universal K-12 scholarship programs,² allowing families—rather than the government—to choose the best educational setting for their children. These States have highlighted the most promising avenue for education reform: education choice for families and competition for residentially assigned, government-run public schools. Today, almost 22 million students can take advantage of alternatives to conventional public schools through education choice.³ The growing body of rigorous research demonstrates that well-designed education-choice programs improve student achievement and cause nearby public schools to improve their performance.⁴

² Stanford, L., M. Lieberman, & V.A. Ifatusin. (updated 2025). “Which States Have Private School Choice?” EducationWeek. https://www.edweek.org/policy-politics/which-states-have-private-school-choice/2024/01.

³ According to EdChoice, “Nearly 22 million students, or 40%, now have access to a private school choice program in their state.” Aldis, A. (2024). “One Million Students in School Choice Programs, By the Numbers.” EdChoice. https://www.edchoice.org/engage/one-million-students-in-school-choice-programs-by-the-numbers/.

⁴ EdChoice (2024), The 123s of School Choice: What the Research Says about Private School Choice Programs in America, 2024 edition, retrieved from: https://www.edchoice.org/wp-content/uploads/2024/06/2024-123s-of-School-Choice.pdf and Raymond, M., Woodworth, J., Lee, W.F., and Bachofer, S. (2023.) “As a Matter of Fact: The National Charter School Study III 2023.” Center for Research on Education Outcomes. https://ncss3.stanford.edu/wp-content/uploads/2023/06/DECK_CREDO-Report-10-31-23.pdf.

Education choice applies to all stages of learning, including postsecondary education. Ensuring that students at every age can pursue an education that aligns with their unique needs and career goals is crucial in the pursuit of educational freedom. This can be achieved through flexible options such as competency-based education that allows students to progress through learning at their own pace, short-term workforce-aligned programs or three-year or less degrees, and distance education. Access to education choice in the pursuit of higher education and career readiness is essential.

It is crucial that the Department prioritize the expansion and strengthening of education choice programs at every level. By doing so, we can ensure that all families, regardless of their background or location, have access to the educational opportunities that best serve their children's unique needs.

Proposed Priority: Projects or proposals that will do one or more of the following:

(a) Increase access to public charter schools and other innovative school models, such as public laboratory schools, public microschools, course-based choice, or regional academies, which may include one or more of the following:

(i) Efforts to expand or replicate existing charter schools that have a record of improving students' academic achievement or have a specific focus on one or more of the following:

(1) Science, technology, engineering, and mathematics (STEM), including computer science,

(2) Career and technical education,

(3) Evidence-based literacy instruction,

(4) Serving students with disabilities and special needs,

(5) Patriotic education, or

(6) Classical education.

(ii) Multi-year plans to create new charter schools.

(iii) Providing Technical Assistance to new or existing charter schools related to authorization, operation, construction, or other relevant areas, including navigating State and local statutes and regulations.

(iv) Opening opportunities for new or existing charter schools to access resources that are currently only available to, or primarily accessed by, district schools in their area.

(b) Expand access to K-12 school options through open enrollment or course-based choice.

(c) Support dissemination of information for all education choice options for students, including private school enrollment, education savings accounts, tax credit scholarships, home-based learning and homeschooling, learning pods and co-ops, public charter schools, and district public schools through open enrollment or course-based choice.

(d) Support state or local development or implementation of education savings accounts.

(e) Support dissemination of information about education savings accounts.

(f) Support families in educating students through home-based education programs, which may include one or more of the following:

(i) Support for online learning communities, or

(ii) Assistance with understanding of State and local requirements for homeschooling.

(g) Provide or expand access to dual or concurrent enrollment programs (as defined in 20 U.S.C. 7801(15)) or early college high schools (as defined in 20 U.S.C. 7801(17)) or other programs where secondary school students begin earning credit toward a postsecondary degree or industry-recognized credential prior to high school graduation.

(h) Expand access to education services that accelerate learning such as high-impact tutoring.

(i) Expand access to military schools or academies.

(j) Expand access to one or more of the following at the high school or postsecondary level:

(i) Distance education,

(ii) Competency-based or skills-based education,

(iii) Pre-apprenticeships,

(iv) Apprenticeships,

(iv) Work-based learning, or

(v) Shortened time-to-degree models.

(k) Expand access to part-time coursework and career preparation.

(l) Expand access to programs or coursework that lead to in-demand, industry-recognized credentials.

Proposed Priority 3: Returning Education to the States

Background: The growth of federal education bureaucracy has created massive costs, but few educational benefits. Through this priority, the Secretary is empowering States and Tribes to take the lead in formulating, developing, and implementing policies that best serve students, families, and educators within their communities. As the Department transitions toward closure, it is more critical than ever for States to rise to the occasion and lead with urgency and vision.

Families deserve an education system that reflects the unique needs of the communities in which they live. One-size-fits-all mandates from the federal government create obstacles, limiting the ability of State, Tribal, local, and institutional leaders to make decisions in the best interest of their students and their workforce. Furthermore, centralized planning and oversight power at the federal level adds unnecessary layers of bureaucracy, siphoning resources away from the classrooms that need them most.

The 10th Amendment wisely reserved constitutional authority for education to the States in order to limit federal overreach. Education decisions should be made at the State level, where local needs, priorities, and circumstances can be fully understood and addressed. This priority is a critical step in achieving the broader goal of educational excellence for all students. States must be empowered to create opportunity through policies that are more responsive, effective, and aligned with the needs of their communities, in order to “empower States to take charge and advocate for and implement what is best for students, families, and educators in their communities.” ⁵

⁵ https://www.ed.gov/about/news/press-release/statement-president-trumps-executive-order-return-power-over-education-states-and-local-communities.

Proposed Priority: Projects or proposals that will be carried out by one or more of the following:

(a) State educational agencies (as defined in 20 U.S.C. 7801(49)),

(b) Governors,

(c) State workforce development agencies or boards,

(d) State vocational rehabilitation agencies,

(e) State higher education agencies (as defined in 20 U.S.C. 1003(22),

(f) Entities identified, designated, or endorsed by a Governor or chief State education official for purposes of implementing the project or proposal,

(g) An Indian Tribe (as defined in 25 U.S.C. 5304(e)), Tribal organization (as defined in 25 U.S.C. 5304(l)), or Tribal educational agency (as defined in 20 U.S.C. 7452(b)(3)), or

(h) Consortia of the entities identified under this priority.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Proposed Definitions

Background: The Secretary proposes the following definitions for use in any Department discretionary grant program in which the proposed priorities are used.

Computer science means the study of computers and algorithmic processes, including their principles, their hardware and software designs, theories, computational thinking, coding, analytics, applications, and Artificial Intelligence (AI).

Computer science often includes computer programming or coding as a tool to create software, including applications, games, websites, and tools to manage or manipulate data; or development and management of computer hardware and the other electronics related to sharing, securing, and using digital information. In addition to coding, the expanding field of computer science emphasizes computational thinking and interdisciplinary problem-solving to equip students with the skills and abilities necessary to apply computation to the digital world.

Computer science does not involve using computers for everyday tasks, such as browsing the internet or using tools like word processors, spreadsheets, or presentation software. Instead, it focuses on creating and developing technology, not just utilizing it.

Evidence framework means an approach to providing a determination about whether an activity, strategy, or intervention meets each aspect of the definition of strong evidence or moderate evidence (as defined in 20 U.S.C. 7801(21)(A)(i)(I-II)), as applicable.

(a) An evidence framework must include each of the following:

(i) Whether a study is experimental, quasi-experimental, or neither;

(ii) Whether or not a study shows a positive, statistically significant effect on student outcomes or other relevant outcomes;

(iii) Whether or not a study uses outcome measures that demonstrate validity and reliability, that do not give an unfair advantage to participants in one condition over another, and that are measured consistently for the groups or participants that are being compared;

(iv) Whether or not a study design is otherwise of high quality, including whether it minimizes factors outside the intervention that could affect student or other relevant outcomes (confounds) and whether random assignment (if used) was done with integrity; and

(v) Whether or not study implementation and analysis is appropriate, including whether groups or participants being compared demonstrate baseline equivalence on key individual and other relevant characteristics, whether differences in baseline equivalence are statistically controlled, and by considering the impact on the validity of the study of any changes to the sample over time.

(b) An evidence framework may be implemented or verified by one or more of the following:

(i) An organization with relevant expertise that has demonstrated to the Department that it has a rigorous, transparent (i.e., publicly accessible) process for determining each aspect identified in (a);

(ii) By peer reviewers with statistical expertise who apply an evidence framework consistent with each aspect identified in (a) in reviewing support for an applicant's assertion that relevant information is strong evidence or moderate evidence, as applicable; or

(iii) By the Department or peer reviewers with statistical expertise who affirm an applicant's assertion that relevant information is strong evidence or moderate evidence because it is supported by studies included in the What Works Clearinghouse in one or more of:

(1) a practice guide;

(2) an intervention report; or

(3) an individual evaluation that is publicly validated as being aligned with strong evidence or moderate evidence, as applicable.

Evidence-based literacy instruction means literacy instruction that relates to explicit, systematic and intentional instruction in phonological awareness, phonic decoding, vocabulary, language structure, reading fluency, and reading comprehension; promotes knowledge-rich materials; and is backed by one or more of the following, as supported by an evidence framework (as defined in this notice):

(a) strong evidence, meaning an activity, strategy, or intervention that demonstrates a statistically significant effect on improving student outcomes or other relevant outcomes based on at least one well-designed and well-implemented experimental study (strong evidence as defined in 20 U.S.C. 7801(21)(A)(i)(I)) or

(b) moderate evidence, meaning an activity, strategy, or intervention that demonstrates a statistically significant effect on improving student outcomes or other relevant outcomes based on at least one well-designed and well-implemented quasi-experimental study (moderate evidence as defined in 20 U.S.C. 7801(21)(A)(i)(II)).

Note: In any discretionary grant program competition in which the definition of “evidence-based literacy instruction” is used as proposed, the Secretary may use the entire definition or one or more of the subparts of the definition that are most relevant for the grant program competition.

Experimental study means a study that is designed to compare outcomes between two groups (such as students) that are otherwise equivalent except for their assignment to either a treatment group receiving an activity, strategy, intervention, process, product, practice, or policy as compared with a control group that does not. Experimental studies can support claims of strong evidence. Randomized controlled trials and single-case design studies are specific types of experimental studies that meet this definition.

Quasi-experimental design study means a study using a design that attempts to approximate an experimental study by identifying a comparison group that is similar to the treatment group in important respects. Cross-sectional group designs, comparative interrupted time series, difference-in-difference designs, and growth curve designs are specific types of quasi-experimental studies that meet this definition. This type of study can meet the definition of moderate evidence but not strong evidence.

Final Priorities and Definitions: The Department will announce the final priorities and definitions in a document in the Federal Register. We will determine the final priorities and definitions after considering responses to the proposed priorities and definitions and other information available to the Department. This document does not preclude us from proposing additional priorities, requirements, or definitions, subject to meeting applicable rulemaking requirements.

Note: This document does not solicit applications. In any year in which we choose to use any of the final priorities and definitions, we invite applications through a notice in the Federal Register.

Executive Orders 12866, 13563, and 14192

Regulatory Impact Analysis

Under Executive Order 12866, it must be determined whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect in a material way the economy, a sector of the economy, productivity, competition, jobs, the environment, public health or safety, or State, local, or Tribal governments or communities;

(2) Create a serious inconsistency or otherwise interfere with an action taken or planned by another agency;

(3) Materially alter the budgetary impacts of entitlements, grants, user fees, or loan programs or the rights and obligations of recipients thereof; or

(4) Raise novel legal or policy issues arising out of legal mandates, the President's priorities, or the principles set forth in the Executive Order.

This proposed regulatory action is not a significant regulatory action subject to review by OMB under section 3(f) of Executive Order 12866.

Since this regulatory action is not a significant regulatory action under section 3(f) of Executive Order 12866, it is not considered an “Executive Order 14192 regulatory action.”

We have also reviewed this proposed regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits;

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing the proposed priorities and definitions only on a reasoned determination that their benefits would justify their minimal costs. Based on the analysis that follows, the Department believes that this regulatory action is consistent with the principles in Executive Order 13563.

We also have determined that this regulatory action would not unduly interfere with State, local, and Tribal governments in the exercise of their governmental functions.

In accordance with these Executive orders, the Department has assessed the potential costs and benefits, both quantitative and qualitative, of this regulatory action. The potential costs are those resulting from statutory requirements and those we have determined are necessary for administering the Department's programs and activities.

Discussion of Costs and Benefits

The proposed priorities would impose no or minimal costs on entities that receive discretionary grant award funds from the Department. Additionally, the benefits of implementing the proposed priorities outweigh any associated costs, to the extent these de minimis costs even exist, because these proposed priorities would result in higher quality grant application submissions that directly improve the educational outcomes of all students. These proposed priorities and definitions will result in significant benefit to the public by improving educational outcomes for all students and ultimately increase the future earnings potential of all students.⁶

⁶ Earnings and unemployment rates by educational attainment, 2023. “Education pays”: U.S. Bureau of Labor Statistics (bls.gov).

Application submission and participation in competitive grant programs that might use these proposed priorities and definitions is voluntary. We believe, based on the Department's administrative experience, that entities preparing an application would not need to expend more resources than they otherwise would have in the absence of these proposed priorities. Therefore, any potential costs to applicants would be de minimis. Because the costs of carrying out activities would be paid for with program funds, the costs of implementation would not be a burden for any eligible applicants that earn a grant award, including small entities. We invite the public to comment on this discussion of estimated costs and benefits. We are specifically interested in high quality comments supported with quantitative data.

Clarity of the Regulations

Executive Order 12866 and the Presidential memorandum “Plain Language in Government Writing” require each agency to write regulations that are easy to understand. The Secretary invites comments on how to make these proposed priorities and definitions, easier to understand, including answers to questions such as the following:

• Are the requirements in the proposed regulations clearly stated?

• Do the proposed regulations contain technical terms or other wording that interferes with their clarity?

• Does the format of the proposed regulations (grouping and order of sections, use of headings, paragraphing, etc.) aid or reduce their clarity?

• Would the proposed regulations be easier to understand if we divided them into more (but shorter) sections?

• Could the description of the proposed regulations in the SUPPLEMENTARY INFORMATION section of this preamble be more helpful in making the proposed regulations easier to understand? If so, how?

• What else could we do to make the proposed regulations easier to understand?

To send any comments that concern how the Department could make these proposed regulations easier to understand, see the instructions in the ADDRESSES section.

Intergovernmental Review: This action is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Regulatory Flexibility Act Certification

This section considers the effects that the final regulations may have on small entities in the educational sector as required by the Regulatory Flexibility Act (RFA), 5 U.S.C. 601 et seq. The purpose of the RFA is to establish as a principle of regulation that agencies should tailor regulatory and informational requirements to the size of entities, consistent with the objectives of a particular regulation and applicable statutes. The RFA generally requires an agency to prepare a regulatory flexibility analysis of any rule subject to notice and comment rulemaking requirements under the Administrative Procedure Act or any other statute unless the agency certifies that the rule will not have a “significant impact on a substantial number of small entities.” The Secretary certifies that this proposed regulatory action would not have a substantial economic impact on a substantial number of small entities.

The U.S. Small Business Administration Size Standards define proprietary institutions as small businesses if they are independently owned and operated, are not dominant in their field of operation, and have total annual revenue below $7,000,000. Nonprofit institutions are defined as small entities if they are independently owned and operated and not dominant in their field of operation. Public institutions are defined as small organizations if they are operated by a government overseeing a population below 50,000.

Paperwork Reduction Act

The proposed priorities and definitions do not contain information collection requirements or affect the currently approved data collection.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or another accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site. You may also access documents of the Department published in the Federal Register by using the article search feature at www.federalregister.gov. Specifically, through the advanced search feature at this site, you can limit your search to documents published by the Department.

Linda McMahon,
Secretary of Education.

[FR Doc. 2025-09093 Filed 5-20-25; 8:45 am]

BILLING CODE 4000-01-P